DEPARTMENT OF TRANSPORTATION

Federal Motor Carrier Safety Administration

[Docket No. FMCSA-2012-0215]

Qualification of Drivers; Exemption Applications; Vision

AGENCY: Federal Motor Carrier Safety Administration (FMCSA), DOT.

ACTION: Notice of applications for exemptions; request for comments.

SUMMARY: FMCSA announces receipt of applications from 19 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 28, 2012.

ADDRESSES: You may submit comments bearing the Federal Docket Management System (FDMS) Docket No. FMCSA-2012-0215 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 19 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

James W. Bittle

Mr. Bittle, age 59, has had chronic retinal detachment in his left eye since 2007. The visual acuity in his right eye is 20/20, and in his left eye, light perception only. Following an examination in 2012, his optometrist noted, “In my medical opinion, Mr. Bittle has sufficient vision to perform the driving tasks required to operate a commercial vehicle.” Mr. Bittle reported that he has driven straight trucks for 38 years, accumulating 1.9 million miles, and tractor-trailer combinations for 38 years, accumulating 1.9 million miles. He holds a Class A Commercial Driver's License (CDL) from Oklahoma. His driving record for the last 3 years shows no crashes and no convictions for moving violations in a CMV.

Kenneth C. Caldwell

Mr. Caldwell, 58, has had refractive amblyopia in his left eye since childhood. The visual acuity in his right eye is 20/20, and in his left eye, 20/60. Following an examination in 2012, his optometrist noted, “Without hesitation, in my medical opinion, I do feel that Kenneth has more than sufficient vision to perform the driving tasks required to operate a commercial vehicle.” Mr. Caldwell reported that he has driven straight trucks for 36 years, accumulating 2.2 million miles, and tractor-trailer combinations for 30 years, accumulating 1.4 million miles. He holds a Class A CDL from New York. His driving record for the last 3 years shows no crashes and no convictions for moving violations in a CMV.

Paul Claas

Mr. Claas, 63, has had complete loss of vision in his left eye since 1970. The best corrected visual acuity in his right eye is 20/30. Following an examination in 2012, his ophthalmologist noted, “Therefore, in my opinion, the patient has sufficient vision in his right eye to perform the driving tasks required to operate a commercial vehicle.” Mr. Claas reported that he has driven straight trucks for 30 years, accumulating 750,000 miles. He holds a Class D operator's license from Wisconsin. His driving record for the last 3 years shows no crashes and one conviction for a moving violation in a CMV; he exceeded the speed limit by 15 mph.

Roger A. Duester

Mr. Duester, 52, has had a retinal detachment in his left eye since 1988. The best corrected visual acuity in his right eye is 20/20; and in his left eye, hand motion vision. Following an examination in 2012, his optometrist noted, “In my opinion, Roger Duester has sufficient vision to perform the driving tasks required to operate a commercial vehicle based upon my medical exam with him.” Mr. Duester reported that he has driven tractor-trailer combinations for 6½ years, accumulating 97,500 miles. He holds a Class A CDL from Texas. His driving record for the last 3 years shows no crashes and no convictions for moving violations in a CMV.

Edward A. Egy

Mr. Egy, 58, has had hyperopic astigmatism in his left eye since childhood. The best corrected visual acuity in his right eye is 20/20; and in his left eye, 20/60. Following an examination in 2012, his optometrist noted, “In my opinion, Edward A. Egy has sufficient vision to perform the tasks required to operate a commercial vehicle as his visual condition is long standing and very stable.” Mr. Egy reported that he has driven straight trucks for 20 years, accumulating 300,000 miles, and tractor-trailer combinations for 15 years, accumulating 225,000 miles. He holds a Class A CDL from Ohio. His driving record for the last 3 years shows no crashes and no convictions for moving violations in a CMV.

Jonathan D. Evans

Mr. Evans, 36, has had amblyopia in his right eye since birth. The best corrected visual acuity in his right eye is 20/400; and in his left eye, 20/20. Following an examination in 2012, his optometrist noted, “It is my medical opinion that Mr. Evans has sufficient vision to perform driving tasks required to operate a commercial vehicle.” Mr. Evans reported that he has driven straight trucks for 3 years, accumulating 45,000 miles. He holds a Class DB CDL from Kentucky. His driving record for the last 3 years shows one crash, which he was not cited for, and no convictions for moving violations in a CMV.

Kelvin Frandin

Mr. Frandin, 34, has had amblyopia in his right eye since birth. The visual acuity in his right eye is 20/200; and in his left eye, 20/20. Following an examination in 2012, his optometrist noted, “Patient has sufficient vision to perform driving tasks on a commercial vehicle.” Mr. Frandin reported that he has driven tractor-trailer combinations for 4 years, accumulating 520,000 miles. He holds a Class A CDL from Kentucky. His driving record for the last 3 years shows no crashes and no convictions of moving violations in a CMV.

Charlene E. Geary

Ms. Geary, 48, has had amblyopia in her left eye since childhood. The best corrected visual acuity in her right eye is 20/20; and in her left eye, 20/200. Following an examination in 2012, her optometrist noted, “Furthermore, I certify that in my medical opinion, Charlene has sufficient vision to perform the driving tasks required to operate a commercial vehicle.” Ms. Geary reported that she has driven straight trucks for 10 years, accumulating 605,000 miles, and buses for 3 years, accumulating 30,300 miles. She holds a Class A CDL from South Dakota. Her driving record for the last 3 years shows no crashes and no convictions for moving violations in a CMV.

Robert S. Gibson, Jr.

Mr. Gibson, 39, has had strabismic amblyopia in his right eye since childhood. The best corrected visual acuity in his right eye is 20/150; and in his left eye, 20/20. Following an examination in 2011, his optometrist noted, “In conclusion, it is my professional opinion that I believe Mr. Gibson has sufficient vision to perform the driving tasks required to operate a commercial vehicle.” Mr. Gibson reported that he has driven straight trucks for 20 years, accumulating 400,000 miles. He holds a Class C operator's license from Pennsylvania. His driving record for the last 3 years shows no crashes but one conviction for a moving violation in a CMV; he failed to obey a traffic control device.

Andrew F. Hill

Mr. Hill, 30, has had a scleral buckle in his left eye since 1991 due to a traumatic injury sustained as a child. The best corrected visual acuity in his right eye is 20/20; and in his left eye, 20/70. Following an examination in 2012, his optometrist noted, “According to today's exam findings, it is my medical opinion that Andrew has sufficient vision to perform the driving tasks required to operate a commercial vehicle.” Mr. Hill reported that he has driven straight trucks for 3½ years, accumulating 8,592 miles, and tractor-trailer combinations for 3 years, accumulating 1,886 miles. He holds a Class A CDL from Texas. His driving record for the last 3 years shows no crashes and no convictions of moving violations in a CMV.

David N. Hinchliffe

Mr. Hinchliffe, 57, has a prosthetic left eye due to a traumatic injury sustained in 2006. The best corrected visual acuity in his right eye is 20/20. Following an examination in 2012, his optometrist noted, “In my opinion, based on the excellent corrected visual acuity and full field of vision of the right eye, I feel that Mr. Hinchliffe does have sufficient vision to perform the driving tasks required to operate a commercial vehicle.” Mr. Hinchliffe reported that he has driven straight trucks for 25 years, accumulating 250,000 miles, and tractor-trailer combinations for 25 years, accumulating 2.5 million miles. He holds a Class A CDL from Texas. His driving record for the last 3 years shows no crashes and no convictions of moving violations in a CMV.

Michael C. Hoff

Mr. Hoff, 60, has had macular ischemia in his right eye since 2004. The best corrected visual acuity in his right eye is 20/400, and in his left eye, 20/20. Following an examination in 2012, his ophthalmologist noted, “His vision is sufficient to safely perform commercial driving.” Mr. Hoff reported that he has driven straight trucks for 25 years, accumulating 250,000 miles, and tractor-trailer combinations for 15 years, accumulating 1.5 million miles. He holds a Class A CDL from Washington. His driving record for the last 3 years shows no crashes and no convictions of moving violations in a CMV.

Joel M. Hunter

Mr. Hunter, 48, has complete loss of vision in his left eye due to a traumatic injury sustained 22 years ago. The best corrected visual acuity in his right eye is 20/20, and in his left eye, count finger vision. Following an examination in 2012, his optometrist noted, “Following a comprehensive eye examination in my office on 1/5/2012, I have found in my medical opinion that Joel retains sufficient vision to perform the driving tasks required to operate a commercial vehicle.” Mr. Hunter reported that he has driven straight trucks for 24 years, accumulating 136,800 miles, and tractor-trailer combinations for 24 years, accumulating 240,000 miles. He holds a Class A CDL from Ohio. His driving record for the last 3 years shows no crashes and no convictions of moving violations in a CMV.

Morris W. Lammert, Jr.

Mr. Lammert, 48, has had amblyopia in his right eye due to retinal atrophy caused by a traumatic injury sustained as a child. The visual acuity in his right eye is 20/70, and in his left eye, 20/20. Following an examination in 2012, his optometrist noted, “Based on these results, it is my medical opinion that Mr. Lammert has sufficient vision to perform the driving tasks required to operate a commercial vehicle.” Mr. Lammert reported that he has driven tractor-trailer combinations for 25 years, accumulating 250,000 miles. He holds a Class A CDL from Wisconsin. His driving record for the last 3 years shows one crash, which he was not cited for, and no convictions for moving violations in a CMV.

Ray E. Myers II

Mr. Myers, 54, has had retinal detachment in his left eye since 2006. The best corrected visual acuity in his right eye is 20/20, and in his left eye, 20/200. Following an examination in 2011, his optometrist noted, “I believe Mr. Myers has sufficient vision (with correction) to perform the driving tasks required to operate a commercial vehicle.” Mr. Myers reported that he has driven tractor-trailer combinations for 27 years, accumulating 1 million miles. He holds a Class A CDL from Maryland. His driving record for the last 3 years shows no crashes and no convictions of moving violations in a CMV.

William J. Powell, Jr.

Mr. Powell, 43, has had loss of vision in his right eye since birth. The best corrected visual acuity in his right eye is no light perception, and in his left eye, 20/20. Following an examination in 2012, his optometrist noted, “In my medical opinion I feel he has sufficient field of vision to perform driving tasks required to operate a commercial vehicle.” Mr. Powell reported that he has driven straight trucks for 23 years, accumulating 29,900 miles. He holds a Class B CDL from North Carolina. His driving record for the last 3 years shows no crashes and no convictions of moving violations in a CMV.

Benny L. Sanchez

Mr. Sanchez, 42, has had complete loss of vision in his left eye due to a traumatic injury sustained as a child. The visual acuity in his right eye is 20/20, and in his left eye, no light perception. Following an examination in 2011, his optometrist noted, “I certify that in my medical opinion that Mr. Benny Sanchez has sufficient vision to perform the driving tasks required to operate a commercial vehicle.” Mr. Sanchez reported that he has driven straight trucks for 6 years, accumulating 400,000 miles, and tractor-trailer combinations for 4 years, accumulating 140,000 miles. He holds a Class A CDL from California. His driving record for the last 3 years shows one crash, which he was not cited for, and no convictions of moving violations in a CMV.

Sandeep Singh

Mr. Singh, 27, has had amblyopia in his left eye since childhood. The visual acuity in his right eye is 20/20, and in his left eye, 20/400. Following an examination in 2012, his optometrist noted, “Sandeep's visual field is normal and will not impair his commercial driving ability or his ability to drive “semi” vehicles.” Mr. Singh reported that he has driven tractor-trailer combinations for 3 years, accumulating 570,000 miles. He holds a Class A CDL from California. His driving record for the last 3 years shows no crashes but two convictions of moving violations in a CMV; in both instances, he failed to obey regulatory signs.

James T. Stalker

Mr. Stalker, 54, has had loss of vision in his right eye due to an optic nerve stroke sustained in 2003. The best corrected visual acuity in his right eye is 20/200, and in his left eye, 20/20. Following an examination in 2012, his ophthalmologist noted, “In my medical opinion Mr. Stalker's vision is adequate for the safe operation of commercial vehicles.” Mr. Stalker reported that he has driven tractor-trailer combinations for 14 years, accumulating 299,992 miles. He holds a Class A CDL from Ohio. His driving record for the last 3 years shows no crashes and no convictions for moving violations in a CMV.

Request for Comments

In accordance with 49 U.S.C. 31136(e) and 31315, FMCSA requests public comment from all interested persons on the exemption petitions described in this notice. The Agency will consider all comments received before the close of business September 28, 2012. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: August 20, 2012.
Larry W. Minor,
Associate Administrator for Policy.

[FR Doc. 2012-21205 Filed 8-28-12; 8:45 am]

BILLING CODE 4910-EX-P